DEPARTMENT OF THE INTERIOR

Geological Survey

[GX21GC009PLFM00; OMB Control Number 1028-0088]

Agency Information Collection Activities; Submission to the Office of Management and Budget for Review and Approval; National Cooperative Geologic Mapping Program (EDMAP and STATEMAP)

AGENCY: U.S. Geological Survey, Interior.

ACTION: Notice of information collection; request for comment.

SUMMARY: In accordance with the Paperwork Reduction Act of 1995, we, the U.S. Geological Survey (USGS) are proposing to renew an information collection.

DATES: Interested persons are invited to submit comments on or before October 12, 2021.

ADDRESSES: Send your comments on this information collection request (ICR) by mail to Mr. Michael Marketti, National Cooperative Geologic Mapping Program, U.S. Geological Survey, 12201 Sunrise Valley Drive, Mail Stop 908, Reston, VA 20192, or email him at mmarketti@usgs.gov.gov.

Please reference Office of Management and Budget (OMB) Control Number 1028-0088 in the subject line of your comments.

FOR FURTHER INFORMATION CONTACT: To request additional information about this ICR, contact Michael Marketti by email at mmarketti@usgs.gov, or by telephone at 703-648-6976. You may also view the ICR at http://www.reginfo.gov/public/do/PRAMain. Individuals who are hearing or speech impaired may call the Federal Relay Service at 1-800-877-8339 for TTY assistance.

SUPPLEMENTARY INFORMATION: We, the USGS, in accordance with the Paperwork Reduction Act of 1995, provide the general public and other Federal agencies with an opportunity to comment on proposed, revised, and continuing collections of information. This helps us assess the impact of our information collection requirements and minimize the public's reporting burden. It also helps the public understand our information collection requirements and provide the requested data in the desired format.

We are soliciting comments on the proposed ICR that is described below. We are especially interested in public comment addressing the following issues: (1) Is the collection necessary to the proper functions of the USGS; (2) will this information be processed and used in a timely manner; (3) is the estimate of burden accurate; (4) how might the USGS enhance the quality, utility, and clarity of the information to be collected; and (5) how might the USGS minimize the burden of this collection on the respondents, including through the use of information technology.

Comments that you submit in response to this notice are a matter of public record. Before including your address, phone number, email address, or other personal identifying information in your comment, you should be aware that your entire comment—including your personal identifying information—may be made publicly available at any time. While you may ask us in your comment to withhold your personal identifying information from public review, we cannot guarantee that we will be able to do so.

Abstract: EDMAP is the educational component of the National Cooperative Geologic Mapping Program (NCGMP) that is intended to train the next generation of geologic mappers. The primary objective of the STATEMAP component of the NCGMP is to establish the geologic framework of areas that are vital to the welfare of individual States.

The NCGMP EDMAP program allocates funds to colleges and universities in the United States and Puerto Rico through an annual competitive cooperative agreement process. Every Federal dollar awarded is matched with university funds.

Geology professors, who are skilled in geologic mapping, request EDMAP funding to support undergraduate and graduate students at their college or university in a one-year mentored geologic mapping project that focuses on a specific geographic area.

Only State Geological Surveys are eligible to apply to the STATEMAP component of the NCGMP pursuant to the National Geologic Mapping Act (Pub. L. 106-148). Since many State Geological Surveys are organized under a state university system, such universities may submit a proposal on behalf of the State Geological Survey.

Each fall, the program announcements are posted to the Grants.gov website and respondents are required to submit applications (comprising Standard Form 424, 424A, 424B, Proposal Summary Sheet, the Proposal, and Budget Sheets. Additionally, EDMAP proposals must include a Negotiated Rate Agreement and a Support letter from a State Geologist or USGS Project Chief).

Since 1996, more than $10 million from the NCGMP has supported geologic mapping efforts of more than 1,335 students at 171 universities in 44 states, the District of Columbia, and Puerto Rico. Funds for graduate projects are limited to $25,000 and undergraduate project funds limited to $15,000. These funds are used to cover field expenses and student salaries, but not faculty salaries or tuition. The authority for both programs is listed in the National Geologic Mapping Act (Pub. L. 106-148).

We will protect information from respondents considered proprietary under the Freedom of Information Act (5 U.S.C. 552) and its implementing regulations (43 CFR part 2), and under regulations at 30 CFR 250.197, “Data and information to be made available to the public or for limited inspection.” Responses are voluntary. No questions of a “sensitive” nature are asked.

Title of Collection: National Cooperative Geologic Mapping Program (NCGMP-EDMAP and STATEMAP).

OMB Control Number: 1028-0088.

Form Number: None.

Type of Review: Extension without change of a currently approved collection.

Respondents/Affected Public: University or College faculty and State Geological Surveys.

Total Estimated Number of Annual Respondents: Approximately 50 University or College faculty and 45 State Geological Survey respondents.

Total Estimated Number of Annual Responses: Total number of responses is 185. Approximately 95 University or College faculty and 90 State Geological Survey responses.

Estimated Completion Time per Response: 36 hours.

Total Estimated Number of Annual Burden Hours: 5,220 hours total.

Respondent's Obligation None. Participation is voluntary, though necessary to receive funding.

Frequency of Collection: Annually.

Total Estimated Annual Non-Hour Burden Cost: There are no “non-hour cost” burdens associated with this IC.

An agency may not conduct, or sponsor and a person is not required to respond to a collection of information unless it displays a currently valid OMB control number.

The authority for this action is the Paperwork Reduction Act of 1995 (44 U.S.C. 3501, et seq.).

Michael Marketti,
Acting Associate Program Coordinator, National Cooperative Geologic Mapping Program.

[FR Doc. 2021-17106 Filed 8-10-21; 8:45 am]

BILLING CODE 4338-11-P